DEPARTMENT OF TRANSPORTATION

Federal Aviation Administration

[Policy Statement No. ANM-01-115-32]

Use of Industry Standards in Seat Certification

AGENCY: Federal Aviation Administration (FAA), DOT.

ACTION: Notice of proposed policy statement; request for comments.

SUMMARY: The Federal Aviation Administration (FAA) announces the availability of a proposed policy for the use of industry standards to address certain certification issues for transport airplane seats. This policy is specifically relevant to certification of seats with an in-arm video system feature.

DATES: Send your comments on or before July 25, 2001.

ADDRESSES: Address your comments to the individual identified under FOR FURTHER INFORMATION CONTACT.

FOR FURTHER INFORMATION CONTACT: Jeff Gardlin, Federal Aviation Administration, Transport Airplane Directorate, Transport Standards Staff, Airframe/Cabin Safety Branch, ANM-115, 1601 Lind Avenue SW., Renton, WA 98055-4056.; telephone (425) 227-2136; fax (425) 227-1100; e-mail: jeff.gardlin@faa.gov.

SUPPLEMENTARY INFORMATION:

Comments Invited

The proposed policy statement is available on the Internet at the following address: http://www.faa.gov/avr/air/anm/draftpolicy/interim.htm. If you do not have access to the Internet, you can obtain a copy of the policy statement by contacting the person listed under FOR FURTHER INFORMATION CONTACT.

The FAA invites your comments on this proposed policy statement. We will accept your comments, data, views, or arguments by letter, fax, or e-mail. Send your comments to the person indicated in FOR FURTHER INFORMATION CONTACT. Mark your comments, “Comments to Policy Statement ANM-01-115-32.”

Use the following format when preparing your comments:

• Organize your comments issue-by-issue.

• For each issue, state what specific change you are requesting to the proposed general statement of policy.

• Include justification, reasons, or data for each change you are requesting.

We also welcome comments in support of the proposed policy.

We will consider all communications received on or before the closing date for comments. We may change the proposed policy because of the comments received.

Background

The Society of Automotive Engineers has issued an Aerospace Recommended Practice (ARP) that addresses video system abuse load testing. This document, ARP 5475, represents the industry recommendation for making an assessment of the injury potential for a video system, and is an acceptable means of addressing this feature. With the issuance of the this ARP, the FAA considers that qualification of the seat itself using that document is sufficient to show compliance with the relevant Federal Aviation Regulations with respect to in-arm video monitors. That is, the in-arm video may be treated the same way as are other seat features. Based on successful experience with design features qualified in accordance with industry standards, we believe that this will simplify the certification process with no adverse effect on safety.

Issued in Renton, Washington, on June 19, 2001.
Ali Bahrami,
Acting Manager, Transport Airplane Directorate, Aircraft Certification Service.

[FR Doc. 01-15899 Filed 6-22-01; 8:45 am]

BILLING CODE 4910-13-P